DEPARTMENT OF THE INTERIOR

Office of the Secretary

U.S. Coral Reef Task Force Meeting

Time and Date: 8:30 a.m. to 5 p.m. EST, February 26 and 27, 2003.

Place: Departmental Auditorium, Department of the Interior, 1849 C Street, NW, Washington, DC 20240.

Status: The Department of the Interior, as co-chair with the Department of Commerce, on behalf of the U.S. Coral Reef Task Force (CRTF), announces a public meeting of the Task Force. Composed of the heads of eleven federal agencies and the Governors of seven states, territories, and commonwealths, the Task Force has helped lead U.S. efforts to address the coral reef crisis and sustainably manage the nation's valuable coral reef ecosystems.

Matters to be Considered: The CRTF will discuss implementation of the National Plan for Coral Reef Conservation Action, improvements in Task Force operations, and accept public comments. The agenda will be available from the contact person below and published on the web at http://coralreef.gov/ when finalized.

Individuals and organizations will have opportunities to register for exhibit space and register to provide public comments limited to less that 5 minutes. Wherever possible, those with similar viewpoints or messages are encouraged to make joint statements. Testimony will be received on the afternoon of February 26. Written statements may also be submitted to the Task Force up to March 14, 2003.

Contact Person for More Information: Organizations and individuals desiring to register for public comments or to obtain additional information should contact Patty Myatt, c/o the Assistant Secretary for Fish and Wildlife Parks, Department of the Interior, 1849 C Street NW., MS-MIB-3156, Washington, DC 20240, telephone 202-208-6621, email patty_myatt@ios.doi.gov.

Dated: January 23, 2003.
Craig Manson,
Assistant Secretary for Fish and Wildlife and Parks.

[FR Doc. 03-2129 Filed 1-30-03; 8:45 am]

BILLING CODE 4310-RK-P